Title 3—

The President

Proclamation 9859 of April 5, 2019

National Crime Victims' Rights Week, 2019

By the President of the United States of America

A Proclamation

Ensuring the safety and security of all Americans is my foremost obligation as President. Criminals must be held accountable for the abuse they inflict on others and for the trauma they cause our communities. Thanks in large part to the dedication and hard work of our Nation's law enforcement officials, violent crime rates have decreased over the last 2 years. Millions of crimes, however, are still committed against Americans every year. These crimes affect the physical, mental, financial, and emotional well-being of victims, causing loss from which they may never fully recover. During National Crime Victims' Rights Week, we renew our commitment to supporting victims as they heal from suffering and rebuild their lives. We also express our gratitude to all those who support victims and who hold offenders accountable.

My Administration will always stand with law enforcement to protect our families from all forms of crime and abuse, and it is our core responsibility to enforce the laws of our Nation. We must continue to support our law enforcement partners to stop those who seek to do harm to our communities. Paying a heavy price as a result of those who violate our laws, many families have been shattered by criminals, terrorists, and traffickers who abuse our immigration system and enter our country illegally. Our Angel Families have endured unfathomable pain and, to prevent more American families from enduring the tragic death of a loved one at the hands of a criminal illegal alien, my Administration created a new office within the Department of Homeland Security—the Victims of Immigrant Crime Engagement, or “VOICE.” VOICE has already assisted thousands of families by providing them crucial services, such as grief counseling and information about perpetrators.

Victims of crime—including women who are survivors of crime—need safe environments conducive to disclosing to authorities information about their abuse and offender. That is one reason why my Administration is making robust funding available for domestic violence shelters, rape crisis centers, homicide support groups, and other programs that help empower victims and survivors. We are supporting more than 7,000 local programs nationwide, and this investment is giving a greater number of victims than at any time in our history access to critical victims' assistance services. We are also employing innovative methods to aid sexual assault victims in rural areas who otherwise would not have access to these important services.

My Administration continues to prioritize the protection of our most precious resource—our children. In December 2018, I signed into law the Amy, Vicky, and Andy Child Pornography Victim Assistance Act of 2018, which creates a compensation fund that child pornography victims can use to obtain financial support for their recovery and loss. In addition, health and public safety professionals are implementing innovative programs to help children, affected by sexual abuse and the opioid crisis, put their lives on better trajectories despite the despair they have witnessed and the suffering they have endured in their homes and communities.

It is critical that we help victims get the justice, assistance, and support they need to recover and rebuild their lives—whether through restitution, compensation, counseling, transitional housing, civil legal aid, or their day in court. All victims of crime deserve our respect, and my Administration will continue to work to ensure a safer and more secure Nation.

NOW, THEREFORE, I, DONALD J. TRUMP, President of the United States of America, by virtue of the authority vested in me by the Constitution and the laws of the United States, do hereby proclaim April 7 through April 13, 2019, as National Crime Victims' Rights Week. I urge all Americans, families, law enforcement, community and faith-based organizations, and private organizations to work together to support victims of crime and protect their rights.

IN WITNESS WHEREOF, I have hereunto set my hand this fifth day of April, in the year of our Lord two thousand nineteen, and of the Independence of the United States of America the two hundred and forty-third.

[FR Doc. 2019-07259

4-9-19; 11:15 am]

Billing code 3295-F9-P